INTERNATIONAL TRADE COMMISSION

[Inv. No. 337-TA-494]

In the Matter of Certain Automotive Measuring Devices, Products Containing Same, and Bezels for Such Devices; Notice of Investigation

AGENCY: International Trade Commission.

ACTION: Institution of investigation pursuant to 19 U.S.C. 1337.

SUMMARY: Notice is hereby given that a complaint was filed with the U.S. International Trade Commission on May 16, 2003, under section 337 of the Tariff Act of 1930, as amended, 19 U.S.C. 1337, on behalf of Auto Meter Products, Inc. of Sycamore, Illinois. An amended complaint was filed on June 9, 2003. The complaint, as amended, alleges violations of section 337 in the importation into the United States, the sale for importation, and the sale within the United States after importation of certain automotive measuring devices, products containing same, and bezels for such devices by reason of infringement of U.S. Registered Trademark Nos. 1,732,643 and 1,497,472 and U.S. Supplemental Register No. 1,903,908 and infringement of the complainant's trade dress. The complaint further alleges that there exists an industry in the United States as required by subsections (a)(1)(A) and (a)(2) of section 337.

The complainant requests that the Commission institute an investigation and, after the investigation, issue a permanent exclusion order and a permanent cease and desist order.

ADDRESSES: The complaint and the amended complaint, except for any confidential information contained therein, are available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its internet server at http://www.usitc.gov. The public record for this investigation may be viewed on the Commission's electronic docket (EDIS) at http://edis.usitc.gov.

FOR FURTHER INFORMATION CONTACT: Karin J. Norton, Esq., Office of Unfair Import Investigations, U.S. International Trade Commission, telephone 202-205-2606.

Authority: The authority for institution of this investigation is contained in section 337 of the Tariff Act of 1930, as amended, and in section 210.10 of the Commission's rules of practice and procedure, 19 CFR 210.10 (2002).

Scope of Investigation: Having considered the amended complaint, the U.S. International Trade Commission, on June 16, 2003, ordered that—(1) Pursuant to subsection (b) of section 337 of the Tariff Act of 1930, as amended, an investigation be instituted to determine:

(a) Whether there is a violation of subsection (a)(1)(C) of section 337 in the importation into the United States, the sale for importation, or the sale within the United States after importation of certain automotive measuring devices, products containing same, or bezels for such devices by reason of infringement of U.S. Registered Trademark Nos. 1,732,643 or 1,497,472, or U.S. Supplemental Register No. 1,903,908, and whether an industry in the United States exists as required by subsection (a)(2) of section 337; and

(b) Whether there is a violation of subsection (a)(1)(A) of section 337 in the importation into the United States, the sale for importation, or the sale within the United States after importation of certain automotive measuring devices, products containing same, or bezels for such devices by reason of infringement of the complainant's trade dress in its “Super Bezel” or “Monster Tachometer” designs, the threat or effect of which is to destroy or substantially injure an industry in the United States;

(2) For the purpose of the investigation so instituted, the following are hereby named as parties upon which this notice of investigation shall be served:

(a) The complainant is—Auto Meter Products, Inc., 413 West Elm Street, Sycamore, IL 60178.

(b) The respondents are the following companies alleged to be in violation of section 337 and upon which the complaint is to be served—

American Products Company, Inc., 22324 Temescal Canyon Rd., Corona, CA 92883.

Auto Gauge (Taiwan) Co., Ltd., No. 8-1, Lane 130, Nan-Kang Road, Sec. 3, Taipei, Taiwan, and 2F, No. 11, Alley 12, Lane 325, Chien-Kang Rd., Taipei, Taiwan.

Blitz North America, Inc., 4879 East La Palma Ave., Suite 201-202, Anaheim, CA 92807.

Equus Products, Inc., 17291-B Mount Herrmann Street, Fountain Valley, CA 92708.

GR Motorsports, Inc., d/b/a Matrix GR Motorsports, Inc., 2267 Saybrook Ave., Commerce, CA 90040.

Hiper Industries, Inc., d/b/a R-1 Racing Sports, Inc., 11752 Markon Drive, Garden Grove, CA 92841.

Jimray Technology, Inc., d/b/a Progauges Co., Ltd., 2F, No. 205 Tiding Ave., Neihu, Taipei, Taiwan.

Leader Way International, Inc., 34, Lane 531, Hua Cheng Road, Hsinchuang City, Taipei Hsien 242, Taiwan.

Longacre Industries, Inc., d/b/a Longacre Racing Products, Inc., Racing Parts Group, Inc., and AccuTech, 14269 NE 200th Street, Woodinville, WA 98072.

Old World Industries, Inc., d/b/a Old World Automotive, Products, SplitFire, and SplitFire International, Inc., 4065 Commercial Ave., Northbrook, IL 60062-1828.

Point Zero Gauge Company, d/b/a QuickCar Racing Products, 231 Pickle Simon Road, Winder, GA 30680-6415.

Tenzo R, d/b/a Autotech Systems and Accessories, 20758 Centre Point Parkway, Santa Clarita, CA 91350.

(c) Karin J. Norton, Esq., Office of Unfair Import Investigations, U.S. International Trade Commission, 500 E Street, SW., Room 401-A, Washington, DC 20436, who shall be the Commission investigative attorney, party to this investigation; and

(3) For the investigation so instituted, the Honorable Sidney Harris is designated as the presiding administrative law judge.

Responses to the amended complaint and the notice of investigation must be submitted by the named respondents in accordance with section 210.13 of the Commission's rules of practice and procedure, 19 CFR 210.13. Pursuant to 19 CFR 201.16(d) and 210.13(a), such responses will be considered by the Commission if received no later than 20 days after the date of service by the Commission of the complaint and the notice of investigation. Extensions of time for submitting a response to the complaint will not be granted unless good cause therefor is shown.

Failure of a respondent to file a timely response to each allegation in the amended complaint and in this notice may be deemed to constitute a waiver of the right to appear and contest the allegations of the complaint and to authorize the administrative law judge and the Commission, without further notice to the respondent, to find the facts to be as alleged in the complaint and this notice and to enter both an initial determination and a final determination containing such findings, and may result in the issuance of a limited exclusion order or a cease and desist order or both directed against the respondent.

By order of the Commission.
Issued: June 16, 2003.
Marilyn R. Abbott,
Secretary.

[FR Doc. 03-15620 Filed 6-19-03; 8:45 am]

BILLING CODE 7020-00-P